DEPARTMENT OF STATE

[Public Notice 6235]

60-Day Notice of Proposed Information Collection: DS Form 4502, DS Form 7003, DS Form 7004, Fulbright Teacher Exchange Program Application Package, OMB No.1405-0114

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Fulbright Teacher Exchange Program Application Package.

• OMB Control Number: 1405-0114.

• Type of Request: Revision of a currently approved collection.

• Originating Office: Office of Global Educational Programs (ECA/A/S).

• Form Number: DS-4502, DS-7003, DS-7004.

• Respondents: Educators desiring to participate in the Fulbright Teacher Exchange Program and/or host and international participant.

• Estimated Number of Respondents:

DS-4502 (U.S. Application)—800.

DS-7003 (International Application)—300.

DS-7004 (Hosting Application)—100.

• Estimated Number of Responses:

DS-4502 (U.S. Application)—800.

DS-7003 (International Application)—300.

DS-7004 (Hosting Application)—100.

• Average Hours per Response:

DS-4502 (U.S. Application)—2 hours.

DS-7003 (International Application)—2 hours.

DS-7004 (Hosting Application)—1.5 hours.

• Total Estimated Burden: 2350 hours.

• Frequency: On occasion.

• Obligation to Respond: Required to Obtain or Retain a Benefit.

DATES: The Department will accept comments from the public up to 60 days from May 27, 2008.

ADDRESSES: You may submit comments by any of the following methods:

• E-mail: ChagnonRX@state.gov.

• Mail (paper, disk, or CD-ROM submissions): Teacher Exchange Branch (ECA/A/S/X), Department of State, SA-44, Room 349, 301 Fourth Street, SW., Washington, DC 20547.

• Fax: 202.453.8890.

• Hand Delivery or Courier: Same as mail address.

You must include the DS form number (if applicable), information collection title, and OMB control number in any correspondence.

FOR FURTHER INFORMATION CONTACT: Direct requests for additional information regarding the collection listed in this notice, including requests for copies of the proposed information collection and supporting documents, to Ruta Chagnon, Program Officer (ECA/A/S/X); Department of State, SA-44, Room 349, 301 Fourth Street, SW., Washington, DC 20547, who may be reached on 202.453.8645 or at ChagnonRX@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

Under the Mutual Educational and Cultural Exchange (Fulbright-Hays) Act of 1961, as amended, the Fulbright Teacher Exchange Program offers academic year exchanges and seminar opportunities to U.S. educators. The data collected is used to determine whether prospective candidates are qualified for participation in and/or eligible to host international participants of the program.

Methodology

Applicants submit either a paper or electronic application to ECA. The receiving office enters the data for retention and program use as appropriate.

Dated: April 30, 2008.
Sheldon Yuspeh,
Executive Director, ECA/IIP, Department of State.

[FR Doc. E8-11766 Filed 5-23-08; 8:45 am]

BILLING CODE 4710-05-P